DEPARTMENT OF THE INTERIOR

National Park Service

[5130-0400-NZM]

Draft Oil and Gas Management Plan/Environmental Impact Statement for Big South Fork National River and Recreation Area and Obed Wild and Scenic River

AGENCY: National Park Service, Interior.

ACTION: Notice of Availability of a Draft Oil and Gas Management Plan/Environmental Impact Statement for Big South Fork National River and Recreation Area and Obed Wild and Scenic River.

SUMMARY: Pursuant to the National Environmental Policy Act of 1969, 42 U.S.C. 4332(2)(C), and the Council on Environmental Quality regulations (40 CFR part 1500-1508), the National Park Service (NPS), Department of the Interior, announces the availability of the draft oil and gas management plan/environmental impact statement (OGMP/DEIS) for the proposed Big South Fork National River and Recreation Area (BISO) and Obed Wild and Scenic River (OBRI). This OGMP/DEIS will guide the various actions that could be implemented for current and future management of oil and gas operations in BISO and OBRI. It analyzes alternative approaches, defines a strategy, and provides guidance for activities taken by owners and operators of private oil and gas rights to ensure these activities are conducted in a manner that protects park resources and values, visitor use and experience, and human health and safety.

DATES: In the summer of 2006, the NPS conducted public scoping meetings in Tennessee and Kentucky to determine the scope of issues to be addressed in the plan and EIS and to identify significant issues related to the management of oil and gas operations at BISO and OBRI. The NPS notice of intent to prepare an environmental impact statement for an oil and gas management plan for BISO and OBRI was published in the Federal Register on May 31, 2006 (71 FR 30955). The NPS will accept comments from the public on the draft OGMP/EIS for 60 days following the publishing of the notice of availability in the Federal Register by the U.S. Environmental Protection Agency. Public meetings will be held during the 60-day review period, with the specific dates and locations to be announced in local and regional media sources of record and on the Park's Web site, http://parkplanning.nps.gov/BISO. Before including your address, phone number, e-mail address, or other personal identifying information in your comment, you should be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety.

ADDRESSES: Electronic copies of the draft OGMP/DEIS will be available online at http://parkplanning.nps.gov/BISO. To request a copy, contact Superintendent, BISO at 4564 Leatherwood Road, Oneida, Tennessee 37841 or by telephone at (423) 569-9778 or Unit Manager, Obed Wild and Scenic River, 208 North Maiden St., Wartburg, Tennessee 37887 or by telephone at (423) 346-6294. While supplies last, the document can also be picked up in person at the above addresses.

SUPPLEMENTARY INFORMATION: Three alternatives are identified and potential impacts are analyzed in the OGMP/DEIS which include the no-action alternative, alternative A, and two action alternatives, including the NPS preferred alternative. Alternative A reflects current management. Alternative B would comprehensively pursue enforcement of the 9B regulations and plans of operations from current operators, based on priorities set by certain site-specific conditions. The NPS preferred alternative, alternative C, would implement the same type of comprehensive management as described in alternative B, but there would be an additional designation of “Special Management Areas” to provide protection for areas where park resources and values are particularly susceptible to adverse impacts from oil and gas development.

Authority: The authority for publishing this notice is contained in 40 CFR 1506.6.

FOR FURTHER INFORMATION CONTACT: Michael Edwards, Project Manager, Environmental Quality Division, National Park Service, Academy Place, P.O. Box 25287, Denver, Colorado 80225, 303-969-2694.

The responsible official for this draft EIS is the Regional Director, Southeast Region, National Park Service, 100 Alabama Street, SW., 1924 Building, Atlanta, Georgia 30303.

Dated: June 8, 2011.
Gordon Wissinger,
Acting Regional Director, Southeast Region.

[FR Doc. 2011-14752 Filed 6-14-11; 8:45 am]

BILLING CODE 4310-JD-P